DEPARTMENT OF TRANSPORTATION

Federal Aviation Administration

Announcement of FAA Advisory Circular (AC) 145-RSTP (Draft), Repair Station Training Program

AGENCY: Federal Aviation Administration (FAA), DOT.

ACTION: Notice of availability of AC, and request for comments.

SUMMARY: This notice announces the availability of and requests comments on AC 145-RSTP that provides guidance on eligibility, application, and selection for the repair station training program.

DATES: Submit comments on or before January 21, 2005.

ADDRESSES: Send all comments on AC 145-RSTP to Mr. Herbert E. Daniel, Aircraft Maintenance Division, General Aviation and Repair Station Branch (AFS-340), Federal Aviation Administration, 800 Independence Ave., SW., Washington, DC 20591; facsimile (202) 267-5115; e-mail Herbert.E.Daniel@faa.gov.

FOR FURTHER INFORMATION CONTACT: Mr. Herbert E. Daniel, AFS-340, at the address, facsimile, or e-mail listed above, or by telephone at (202) 267-3109; or Mr. Dan Bachelder, AFS-340, at the address or facsimile listed above or e-mail Dan.Bachelder@faa.gov or by telephone at (202) 267-7027.

SUPPLEMENTARY INFORMATION:

Comments Invited

The proposed AC 145-RSTP is available on the FAA's Regulatory Guidance Library Web site at: http://www.airweb.faa.gov/Regulatory_and_Guidance_Library/rgDAC.nsf/MainFrame?OpenFrameSet under the Open for Comment link. Interested persons are invited to comment on the AC by submitting written data, views, or suggestions, as they may desire. Please identify AC 145-RSTP, Repair Station Training Program, and submit comments, either hardcopy or electronic, to the appropriate address listed above.

Issued in Washington, DC, on December 17, 2004.
James J. Ballough,
Director, Flight Standards Service.

[FR Doc. 04-28008 Filed 12-17-04; 2:42 pm]

BILLING CODE 4910-13-P